DEPARTMENT OF ENERGY

Federal Energy Regulatory Commission

Combined Notice of Filings #1

Take notice that the Commission received the following exempt wholesale generator filings:

Docket Numbers: EG16-21-000.

Applicants: Central Antelope Dry Ranch C LLC.

Description: Notice of Self-Certification of Exempt Wholesale Generator (EWG) Status of Central Antelope Dry Ranch C LLC.

Filed Date: 11/13/15.

Accession Number: 20151113-5255.

Comments Due: 5 p.m. ET 12/4/15.

Take notice that the Commission received the following electric rate filings:

Docket Numbers: ER12-2068-009; ER15-1471-003; ER10-2460-009; ER10-2461-009; ER12-2159-005; ER12-682-010; ER10-2463-009; ER15-1672-002; ER11-2201-013; ER10-2464-006; ER10-1821-010; ER13-1139-012; ER13-1585-006; ER12-2205-006; ER10-2465-005; ER11-2657-006; ER13-17-007; ER14-2630-005; ER12-919-004; ER12-1311-009; ER10-2466-010; ER11-4029-009.

Applicants: Blue Sky East, LLC, Blue Sky West, LLC, Canandaigua Power Partners, LLC, Canandaigua Power Partners II, LLC, Canadian Hills Wind, LLC, Erie Wind, LLC, Evergreen Wind Power, LLC, Evergreen Wind Power II, LLC, Evergreen Wind Power III, LLC, First Wind Energy Marketing, LLC, Goshen Phase II LLC, Imperial Valley Solar 1, LLC, Longfellow Wind, LLC, Meadow Creek Project Company LLC, Milford Wind Corridor Phase I, LLC, Milford Wind Corridor Phase II, LLC, Niagara Wind Power, LLC, Regulus Solar, LLC, Rockland Wind Farm LLC, Stetson Holdings, LLC, Stetson Wind II, LLC, Vermont Wind, LLC.

Description: Notice of Non-Material Change in Status of Blue Sky East, LLC, et al.

Filed Date: 11/13/15.

Accession Number: 20151113-5271.

Comments Due: 5 p.m. ET 12/4/15.

Docket Numbers: ER15-1582-002.

Applicants: 65HK 8me LLC.

Description: Notice of Non-Material Change in Status of 65HK 8me LLC.

Filed Date: 11/13/15.

Accession Number: 20151113-5216.

Comments Due: 5 p.m. ET 12/4/15.

Docket Numbers: ER15-1914-002.

Applicants: 87RL 8me LLC.

Description: Notice of Non-Material Change in Status of 87RL 8me LLC.

Filed Date: 11/13/15.

Accession Number: 20151113-5217.

Comments Due: 5 p.m. ET 12/4/15.

Docket Numbers: ER16-327-000.

Applicants: EDF Trading North America, LLC.

Description: § 205(d) Rate Filing: Compliance 2015 to be effective 11/16/2015.

Filed Date: 11/13/15.

Accession Number: 20151113-5211.

Comments Due: 5 p.m. ET 12/4/15.

Docket Numbers: ER16-328-000.

Applicants: Cogentrix Virginia Financing Holding Company.

Description: Baseline eTariff Filing: MBR Application to be effective 1/12/2016.

Filed Date: 11/13/15.

Accession Number: 20151113-5212.

Comments Due: 5 p.m. ET 12/4/15.

Docket Numbers: ER16-329-000.

Applicants: Sky River Asset Holdings, LLC.

Description: Tariff Cancellation: Sky River Asset Holdings, LLC Cancellation of MBR Tariff to be effective 11/16/2015.

Filed Date: 11/13/15.

Accession Number: 20151113-5214.

Comments Due: 5 p.m. ET 12/4/15.

Docket Numbers: ER16-330-000.

Applicants: Midcontinent Independent System Operator, Inc.

Description: Request for Waiver of Midcontinent Independent System Operator, Inc.

Filed Date: 11/13/15.

Accession Number: 20151113-5266.

Comments Due: 5 p.m. ET 12/4/15.

Take notice that the Commission received the following electric reliability filings:

Docket Numbers: RD16-1-000.

Applicants: North American Electric Reliability Corporation.

Description: Petition of the North American Electric Reliability Corporation for Approval of Proposed Reliability Standard MOD-031-2.

Filed Date: 11/13/15.

Accession Number: 20151113-5279.

Comments Due: 5 p.m. ET 12/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2015.
Nathaniel J. Davis, Sr.,
Deputy Secretary.

[FR Doc. 2015-29758 Filed 11-20-15; 8:45 am]

BILLING CODE 6717-01-P